DEPARTMENT OF TRANSPORTATION

Federal Aviation Administration

14 CFR Part 39

[Docket No. FAA-2011-1324; Directorate Identifier 2011-NM-104-AD; Amendment 39-16983; AD 2012-06-02]

RIN 2120-AA64

Airworthiness Directives; Airbus Airplanes

AGENCY: Federal Aviation Administration (FAA), DOT.

ACTION: Final rule; correction.

SUMMARY: The FAA is correcting an airworthiness directive (AD) that published in the Federal Register. That AD applies to all Airbus Model A300 B4-600, B4-600R, and F4-600R series airplanes, Model A300 C4-605R Variant F airplanes (collectively called A300-600 series airplanes), and Model A310 series airplanes. The agency docket number specified throughout the final rule is incorrect. This document corrects that error. In all other respects, the original document remains the same.

DATES: This final rule is effective April 25, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION: Airworthiness Directive (AD) 2012-06-02, Amendment 39-16983 (77 FR 16430, March 21, 2012), currently requires replacing a certain aluminum high pressure pipe with a new corrosion resistant stainless steel pipe, for all Airbus Model A300 B4-600, B4-600R, and F4-600R series airplanes, Model A300 C4-605R Variant F airplanes (collectively called A300-600 series airplanes), and Model A310 series airplanes.

As published, the agency docket number specified throughout the AD is incorrect.

No other part of the preamble or regulatory information has been changed; therefore, only the changed portion of the final rule is being published in the Federal Register.

The effective date of this AD remains April 25, 2012.

Correction of Non-Regulatory Text

In the Federal Register of March 21, 2012, AD 2012-06-02, Amendment 39-16983 (77 FR 16430), is corrected as follows:

On page 16430, in the second column, change the docket number to read as follows:

“[Docket No. FAA-2011-1324; Directorate Identifier 2011-NM-104-AD; Amendment 39-16983; AD 2012-06-02]”

Correction of Regulatory Text

§ 39.13 [Corrected]

In the Federal Register of March 21, 2012, AD 2012-06-02, Amendment 39-16983 (77 FR 16430), on page 16431, in the third column, the product identification line of AD 2012-06-02 is corrected to read as follows:

* * * * *

2012-06-02 Airbus: Amendment 39-16983, Docket No. FAA-2011-1324; Directorate Identifier 2011-NM-104-AD.

* * * * *

Issued in Renton, Washington, on April 13, 2012.
John P. Piccola,
Acting Manager, Transport Airplane Directorate, Aircraft Certification Service.

[FR Doc. 2012-9576 Filed 4-20-12; 8:45 am]

BILLING CODE 4910-13-P